DEPARTMENT OF ENERGY

Federal Energy Regulatory Commission

Combined Notice of Filings #1

Take notice that the Commission received the following electric rate filings:

Docket Numbers: ER19-1950-002.

Applicants: California Independent System Operator Corporation.

Description: Compliance filing: 2020-11-13 FERC Order No. 845 Compliance Filing to be effective 2/20/2020.

Filed Date: 11/13/20.

Accession Number: 20201113-5090.

Comments Due: 5 p.m. ET 12/4/20.

Docket Numbers: ER19-2683-001.

Applicants: EFS Parlin Holdings, LLC.

Description: Report Filing: Refund Report to be effective N/A.

Filed Date: 11/13/20.

Accession Number: 20201113-5061.

Comments Due: 5 p.m. ET 12/4/20.

Docket Numbers: ER20-431-002.

Applicants: Ohio Power Company, AEP Ohio Transmission Company, Inc., American Electric Power Service Corporation, PJM Interconnection, L.L.C.

Description: Compliance filing: AESPC submits Compliance Filing in ER20-431 to be effective 1/21/2020.

Filed Date: 11/12/20.

Accession Number: 20201112-5296.

Comments Due: 5 p.m. ET 12/3/20.

Docket Numbers: ER20-954-003.

Applicants: Ohio Power Company, AEP Ohio Transmission Company, Inc., American Electric Power Service Corporation, PJM Interconnection, L.L.C.

Description: Compliance filing: AEP submits Compliance Filing in ER20-954 to be effective 4/4/2020.

Filed Date: 11/12/20.

Accession Number: 20201112-5278.

Comments Due: 5 p.m. ET 12/3/20.

Docket Numbers: ER20-2705-001.

Applicants: Mankato Energy Center, LLC.

Description: Tariff Amendment: Response to Additional Information Request to be effective 7/21/2020.

Filed Date: 11/12/20.

Accession Number: 20201112-5272.

Comments Due: 5 p.m. ET 12/3/20.

Docket Numbers: ER20-2706-001.

Applicants: Mankato Energy Center II, LLC.

Description: Tariff Amendment: Response to Additional Information Request to be effective 7/21/2020.

Filed Date: 11/12/20.

Accession Number: 20201112-5274.

Comments Due: 5 p.m. ET 12/3/20.

Docket Numbers: ER20-2779-001.

Applicants: Southwest Power Pool, Inc.

Description: Tariff Amendment: 3215R8 People's Electric Coop NITSA Deficiency Response to be effective 8/1/2020.

Filed Date: 11/13/20.

Accession Number: 20201113-5056.

Comments Due: 5 p.m. ET 12/4/20.

Docket Numbers: ER21-395-000.

Applicants: California Independent System Operator Corporation.

Description: Compliance filing: 2020-11-12 NV Energy Meter Data Waiver to be effective N/A.

Filed Date: 11/12/20.

Accession Number: 20201112-5277.

Comments Due: 5 p.m. ET 12/3/20.

Docket Numbers: ER21-396-000.

Applicants: Monongahela Power Company, The Potomac Edison Company, West Penn Power Company.

Description: Notice of Cancellation of Power Supply Agreement of the South FirstEnergy Operating Companies.

Filed Date: 11/12/20.

Accession Number: 20201112-5334.

Comments Due: 5 p.m. ET 12/3/20.

Docket Numbers: ER21-397-000.

Applicants: Midcontinent Independent System Operator, Inc., Ameren Transmission Company of Illinois.

Description: § 205(d) Rate Filing: 2020-11-13_SA 3580 ATXI-City of Rolla WCA to be effective 1/13/2021.

Filed Date: 11/13/20.

Accession Number: 20201113-5008.

Comments Due: 5 p.m. ET 12/4/20.

Docket Numbers: ER21-398-000.

Applicants: Southwest Power Pool, Inc.

Description: § 205(d) Rate Filing: 1883R9 Evergy Kansas Central, Inc. NITSA NOA—Alma to be effective 2/1/2021.

Filed Date: 11/13/20.

Accession Number: 20201113-5031.

Comments Due: 5 p.m. ET 12/4/20.

Docket Numbers: ER21-399-000.

Applicants: Southwest Power Pool, Inc.

Description: § 205(d) Rate Filing: 1887R10 Evergy Kansas Central, Inc. NITSA NOA—Elsmore to be effective 2/1/2021.

Filed Date: 11/13/20.

Accession Number: 20201113-5037.

Comments Due: 5 p.m. ET 12/4/20.

Docket Numbers: ER21-400-000.

Applicants: Midcontinent Independent System Operator, Inc., Ameren Illinois Company.

Description: § 205(d) Rate Filing: 2020-11-13_SA 3028 Ameren IL-Prairie Power Project #30 EIEC Gifford to be effective 1/13/2021.

Filed Date: 11/13/20.

Accession Number: 20201113-5038.

Comments Due: 5 p.m. ET 12/4/20.

Docket Numbers: ER21-401-000.

Applicants: Southwest Power Pool, Inc.

Description: § 205(d) Rate Filing: 1889R9 Evergy Kansas Central, Inc. NITSA NOA—Mindenmines to be effective 2/1/2021.

Filed Date: 11/13/20.

Accession Number: 20201113-5044.

Comments Due: 5 p.m. ET 12/4/20.

Docket Numbers: ER21-402-000.

Applicants: Midcontinent Independent System Operator, Inc.

Description: § 205(d) Rate Filing: 2020-11-13_Shared Network Upgrades Filing to be effective 2/1/2021.

Filed Date: 11/13/20.

Accession Number: 20201113-5051.

Comments Due: 5 p.m. ET 12/4/20.

Docket Numbers: ER21-403-000.

Applicants: Southern California Edison Company.

Description: § 205(d) Rate Filing: Letter Agreement Terra-Gen—Sanborn Hybrid 3 SA No. 258 to be effective 11/14/2020.

Filed Date: 11/13/20.

Accession Number: 20201113-5066.

Comments Due: 5 p.m. ET 12/4/20.

Docket Numbers: ER21-404-000.

Applicants: LS Power Development, LLC.

Description: Request for Order Granting Tariff Waiver, et al. of LS Power Development, LLC.

Filed Date: 11/12/20.

Accession Number: 20201112-5345.

Comments Due: 5 p.m. ET 11/19/20.

Docket Numbers: ER21-405-000.

Applicants: Duke Energy Progress, LLC.

Description: § 205(d) Rate Filing: DEP-DEC Concurrence to Dynamic Transfer Agreement to be effective 1/1/2021.

Filed Date: 11/13/20.

Accession Number: 20201113-5092.

Comments Due: 5 p.m. ET 12/4/20,

Docket Numbers: ER21-406-000.

Applicants: Public Service Company of Colorado.

Description: § 205(d) Rate Filing: 2020-11-13 PSC-NCI-LGIA-223-0.0.0 to be effective 11/18/2020.

Filed Date: 11/13/20.

Accession Number: 20201113-5095.

Comments Due: 5 p.m. ET 12/4/20.

Docket Numbers: ER21-407-000.

Applicants: Southwest Power Pool, Inc.

Description: § 205(d) Rate Filing: Western Area Power Administration Contract Services Agreement Amendment to be effective 2/1/2021.

Filed Date: 11/13/20.

Accession Number: 20201113-5125.

Comments Due: 5 p.m. ET 12/4/20.

Take notice that the Commission received the following electric securities filings:

Docket Numbers: ES21-3-000.

Applicants: Republic Transmission, LLC.

Description: Errata to October 9, 2020 Application [Exhibit C, D and E] Under Section 204 of the Federal Power Act for Authorization to Issue Securities of Republic Transmission, LLC.

Filed Date: 11/12/20.

Accession Number: 20201112-5341.

Comments Due: 5 p.m. ET 12/3/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2020.
Nathaniel J. Davis, Sr.,
Deputy Secretary.

[FR Doc. 2020-25556 Filed 11-18-20; 8:45 am]

BILLING CODE 6717-01-P